FEDERAL COMMUNICATIONS COMMISSION

Public Information Collection(s) Approved by Office of Management and Budget

June 23, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Ronnie Banks, Federal Communications Commission, 445 12th Street., SW., Washington, DC 20554. (202) 418-1099 or via the Internet at ronnie.banks@fcc.gov.

SUPPLEMENTARY INFORMATION: OMB Control No.: 3060-0718.

OMB Approval Date: June 23, 2006.

Expiration Date: 6/30/09.

Title: Part 101, Governing the Terrestrial Microwave Fixed Radio Service.

Form No.: N/A.

Estimated Annual Burden: 6,364 responses; 36,585 total annual burden hours; approximately .25-3 hours per response.

Needs and Uses: Part 101 requires various information to be filed and maintained by the respondent to determine the technical, legal and other qualifications of applications to operate a station in the public and private operational fixed services. The information is also used to determine whether the public interest, convenience, and necessity are being served as required by 47 U.S.C. 309. The Commission's staff also uses this information to ensure that applicants and licensee comply with ownership and transfer restrictions imposed by 47 U.S.C. 310. The Appendix attached to the OMB submission lists the rules in Part 101 that impose reporting, recordkeeping and third party disclosure requirements approved under OMB Control No. 3060-0718.

Federal Communications Commission.
Marlene H. Dortch,
Secretary.

[FR Doc. E6-11635 Filed 7-25-06; 8:45 am]

BILLING CODE 6712-01-P